DEPARTMENT OF ENERGY

Federal Energy Regulatory Commission

Combined Notice of Filings #1

Take notice that the Commission received the following electric corporate filings:

Docket Numbers: EC20-47-000.

Applicants: Nuveen Asset Management, LLC, Symphony Asset Management LLC.

Description: Application for Authorization Under Section 203 of the Federal Power Act, et al. of Nuveen Asset Management, LLC, et al.

Filed Date: 3/16/20.

Accession Number: 20200316-5201.

Comments Due: 5 p.m. ET 4/6/20.

Take notice that the Commission received the following electric rate filings:

Docket Numbers: ER19-260-003.

Applicants: Duke Energy Carolinas, LLC.

Description: Compliance filing: DEF Schedule 2 Settlement Compliance Filing to be effective 6/1/2019.

Filed Date: 3/17/20.

Accession Number: 20200317-5047.

Comments Due: 5 p.m. ET 4/7/20.

Docket Numbers: ER19-1730-001.

Applicants: Wind Park Bear Creek, L.L.C.

Description: Report Filing: Refund Report Under Docket ER19-1730 to be effective N/A.

Filed Date: 3/17/20.

Accession Number: 20200317-5005.

Comments Due: 5 p.m. ET 4/7/20.

Docket Numbers: ER19-1886-001.

Applicants: Stony Creek Wind Farm, LLC.

Description: Report Filing: Refund Report Under Docket ER19-1886 to be effective N/A.

Filed Date: 3/17/20.

Accession Number: 20200317-5004.

Comments Due: 5 p.m. ET 4/7/20.

Docket Numbers: ER20-608-002.

Applicants: Bear Valley Electric Service, Inc.

Description: Tariff Amendment: Second Amendment to MBR Application Request for Waivers & Blanket Authority to be effective 5/1/2020.

Filed Date: 3/16/20.

Accession Number: 20200316-5131.

Comments Due: 5 p.m. ET 4/6/20.

Docket Numbers: ER20-930-001.

Applicants: South Carolina Generating Company, Inc.

Description: Tariff Amendment: Amendment of GENCO Unit Power Sales Agreement to be effective 1/31/2020.

Filed Date: 3/17/20.

Accession Number: 20200317-5070.

Comments Due: 5 p.m. ET 4/7/20.

Docket Numbers: ER20-1300-000.

Applicants: PJM Interconnection, L.L.C.

Description: § 205(d) Rate Filing: First Revised ISA, SA No. 4114; Queue No. AC2-016 to be effective 2/13/2020.

Filed Date: 3/17/20.

Accession Number: 20200317-5000.

Comments Due: 5 p.m. ET 4/7/20.

Docket Numbers: ER20-1311-000.

Applicants: Southwest Power Pool, Inc.

Description: § 205(d) Rate Filing: 1276R21 Evergy Metro NITSA NOA to be effective 3/1/2020.

Filed Date: 3/17/20.

Accession Number: 20200317-5027.

Comments Due: 5 p.m. ET 4/7/20.

Docket Numbers: ER20-1312-000.

Applicants: Tri-State Generation and Transmission Association, Inc.

Description: § 205(d) Rate Filing: Rate Schedule FERC No. 271 between Tri-State and Wheatland to be effective 3/18/2020.

Filed Date: 3/17/20.

Accession Number: 20200317-5040.

Comments Due: 5 p.m. ET 4/7/20.

Docket Numbers: ER20-1314-000.

Applicants: Sunflower Electric Power Corporation.

Description: Petition for Tariff Waiver of Sunflower Electric Power Corporation.

Filed Date: 3/16/20.

Accession Number: 20200316-5191.

Comments Due: 5 p.m. ET 4/6/20.

Docket Numbers: ER20-1315-000.

Applicants: Citizens Sunrise Transmission LLC.

Description: Request for Limited Tariff Waiver of Citizens Sunrise Transmission LLC.

Filed Date: 3/16/20.

Accession Number: 20200316-5204.

Comments Due: 5 p.m. ET 4/6/20.

Docket Numbers: ER20-1316-000.

Applicants: Pacific Gas and Electric Company.

Description: § 205(d) Rate Filing: Transmission Access Charge Balancing Account (2020 TACBAA) Revisions to be effective 12/31/9998.

Filed Date: 3/17/20.

Accession Number: 20200317-5083.

Comments Due: 5 p.m. ET 4/7/20.

Docket Numbers: ER20-1317-000.

Applicants: Arizona Public Service Company.

Description: Compliance filing: Compliance Filing—Modification of Formula Rate to be effective 1/27/2020.

Filed Date: 3/17/20.

Accession Number: 20200317-5086.

Comments Due: 5 p.m. ET 4/7/20.

Take notice that the Commission received the following electric securities filings:

Docket Numbers: ES20-18-000.

Applicants: Midcontinent Independent System Operator, Inc.

Description: Application Under Section 204 of the Federal Power Act for Authorization to Issue Securities of Midcontinent Independent System Operator, Inc.

Filed Date: 3/16/20.

Accession Number: 20200316-5179.

Comments Due: 5 p.m. ET 4/6/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 17, 2020.
Nathaniel J. Davis, Sr.,
Deputy Secretary.

[FR Doc. 2020-06045 Filed 3-20-20; 8:45 am]

BILLING CODE 6717-01-P